DEPARTMENT OF AGRICULTURE

Forest Service

Information Collection; Request for Comments; Timber Purchasers' Costs and Sales Data

AGENCY: Forest Service, USDA.

ACTION: Notice.

SUMMARY: In accordance with the Paperwork Reduction Act of 1995, the Forest Service announces its intention to extend an information collection. The collected information will help the Forest Service facilitate the appraisal and sale of timber. Information will be collected from purchasers of timber from National Forest System lands. This information is used to assist the Forest Service in updating the selling values and costs for the appraisal system.

DATES: Comments on this notice must be received in writing on or before April 9, 2004.

ADDRESSES: Comments concerning this notice should be sent via the U.S. Postal Service to Director, Forest and Rangeland Management, MAIL STOP 1105, Forest Service, USDA, 1400 Independence Avenue SW., Washington, DC 20250-1105.

Comments also may be submitted via facsimile to (202) 205-1045 or e-mail to rbaumback@fs.fed.us.

The public may inspect comments received in the Office of the Director of Forest and Rangeland Management, Third Floor, Northwest Wing, Yates Building, 201 14th Street SW., Washington, DC. Visitors are encouraged to call ahead to (202) 205-0893 to facilitate entry into the building.

FOR FURTHER INFORMATION CONTACT: Rex Baumback, Timber Sale Contract Administration Specialist, Forest Management at (202) 205-0855.

SUPPLEMENTARY INFORMATION:

Background

Timber and other forest products on national forest lands are sold for the purpose of achieving the policies set forth in the Multiple-Use Sustained Yield Act of 1960, and the Forest Rangeland Renewable Resources Planning Act of 1974. Timber must not be sold for less than the advertised price pursuant to Public Law 94-588. This statutory language also requires the Forest Service not to sell timber below a minimum stumpage rate established by the Chief. This minimum value provides a way for the Forest Service to ensure that timber sales recover at least some of the variable costs associated with preparing and administering a timber sale.

Forest Service timber appraisals develop advertised prices using a transaction evidence or residual value form of appraisal. Transaction evidence appraisals begin with an average of past successful bids for timber on the stump adjusted to the timber sale and market conditions of the sale being appraised. Residual value appraisals subtract operating costs from the value of products sold.

The following costs and values are needed for the transaction evidence and residual value appraisal systems in the Forest Service: (1) Product value, (2) manufacturing cost, (3) falling and bucking, (4) skidding and loading, and (5) hauling. These costs can be provided by mail from purchasers, subject to verification.

The Forest Service collects product value and cost data from its timber purchasers to develop average value and cost information for appraisals. In many areas, lumber product values are purchased from the Western Wood Products Association. These average costs help appraisers estimate fair market value and develop advertised prices for national forest timber. Timber purchasers furnish cost and product value data in accordance with standard timber sale contract Forms FS-2400-6 and FS-2400-6T. These standard timber sale contracts contain the following standard contract provision:

B(T)6.9 Records. Upon request, Purchaser shall provide access to appropriate annual records in Purchaser's books and accounts to enable Forest Service to obtain and analyze accurate operating costs and selling price data for appropriate use in appraising Federal timber. However, upon receiving such a request from Contracting Officer, Purchaser may make written notice that such data shall be provided through an independent certified public accountant approved by Contracting Officer. Purchaser agrees that the certified public accountant shall do such work in accordance with specifications provided by Contracting Officer. Purchaser shall pay cost of such services. Data so provided shall be subject to acceptance by Forest Service and subject to review and adjustment, where needed, by Forest Service.

Operating cost and selling price data shall include that applicable for appraising timber obtained from Federal sources in or processed in the Region. Purchaser shall provide access to such data on behalf of subsidiary entities owned or controlled by Purchaser to the extent they participate in harvesting, manufacturing, or marketing said timber into products recognized in National Forest timber appraisals in the area. To a like extent, Purchaser shall request in writing Purchaser's contractors and subcontractors to make such data available to Forest Service.

Information so obtained shall be treated as confidential, as provided in regulations issued by the Secretary of Agriculture (7 CFR 1.12), and shall be available for review by parties from whom such data are obtained.

This standard contract provision was developed in consultation with timber industry groups, including but not limited to: Western Wood Products Association, National Forest Products Association, Western Forest Industries Association, and Industrial Forestry Association. Cost data are used towards the development of advertised rates for the sale of National Forest timber. Cost information is used by State and other agencies in their appraisals. Timber purchasers also rely upon cost collections to help them independently appraise the value of Federal timber and to estimate the cost of subcontracting certain aspects of harvesting Federal timber.

The Contracting Officer requests data from the timber sale purchasers; the Regional Office Forest Management Staff will analyyze the data.

Description of Information Collection

The following describes the information collection to be extended:

Title: Timber Purchasers' Costs and Sales Data.

OMB Number: 0596-0017.

Expiration Date of Approval: April 30, 2004.

Type of Request: Extension.

Abstract: Contracting Officers will collect and the Regional Office Forest Management Staff will evaluate the cost data, as provided by timber sale purchasers. Such data will remain confidential between the Forest Service and the timber sale purchaser who provided the information. Cost data are collected in several formats ranging from paper to electronic media. Some firms mail cost data to Regional Offices, others provide table space and copying facilities, still others provide on site access to electronic data. Data gathered in this information collection are not available from other sources.

Estimate of Annual Burden: 1 hour.

Type of Respondents: Timber sale purchasers.

Estimated Annual Number of Respondents: 20.

Estimated Annual Number of Responses per Respondent: 1.

Estimated Total Annual Burden on Respondents: 20 hours.

Comment is Invited: Comment is invited on: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clairity of the information to be collected; and (d) ways to minimize the burden of the collection of information on respondents, including the use of automated, electronic, mechanical, or other technological collection techniques or other forms of information technology.

Use of Comments

All comments received in response to this notice, including names and addresses when provided, will become a matter of public record and will be available for public inspection and copying. Comments will be summarized and included in the request for Office of Management and Budget approval.

Dated: January 8, 2004.
Gloria Manning,
Associate Deputy Chief, National Forest System.

[FR Doc. 04-2664 Filed 2-6-04; 8:45 am]

BILLING CODE 3410-11-P